DEPARTMENT OF HEALTH AND HUMAN SERVICES

Office of the Secretary

[Document Identifier: OS-0990-0000; 60-day notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Transferring existing collection 0920-0428.

Title of Information Collection: Supplements to the Application for Federal Assistance SF-424 (HHS 5161-1).

Form/OMB No.: 0990-0000.

Use: The Checklist, Program Narrative, and the Public Health System Impact Statement (third party notification) (PHSIS) are a part of the standard application for State and local governments and for private non-profit and for-profit organizations when applying for financial assistance from PHS grant programs. The Checklist assists applicants to ensure that they have included all required information necessary to process the application. The Checklist data helps to reduce the time required to process and review grant applications, expediting the issuance of grant awards. The PHSIS Third Party Notification Form is used to inform State and local health agencies of community-based proposals submitted by non-governmental applicants for Federal funding.

There may be some revisions made to one or more of the forms to allow the respondents easy web-based access. This should not affect the current burden. There is no cost to the respondents other than their time. HHS is transferring the clearance of the 5161-1 supplements to the SF-424 from CDC to HHS. HHS is requesting a three-year clearance. The request for renewal of this form was originally made in the 60-day FRN under OMB number 0920-0428.

Frequency: Once.

Affected Public: Not-for-profit institutions and State, Local, or Tribal Government.

Annual Number of Respondents: 7,457.

Total Annual Responses: 7,457.

Average Burden per Response: 5.725 hours.

Total Annual Hours: 42,691.

To obtain copies of the supporting statement and any related forms for the proposed paperwork collections referenced above, e-mail your request, including your address, phone number, OMB number, and OS document identifier, to Sherette.funncoleman @hhs.gov, or call the Reports Clearance Office on (202) 690-6162. Written comments and recommendations for the proposed information collections must be received with 60-days, and directed to the OS Paperwork Clearance Officer at the following address: Department of Health and Human Services, Office of the Secretary, Assistant Secretary for Resources and Technology, Office of Resources Management, Attention: Sherrette Funn-Coleman (0990-NEW), Room 537-H, 200 Independence Avenue, SW., Washington, DC 20201.

Dated: April 20, 2007.
Alice Bettencourt,
Office of the Secretary, Paperwork Reduction Act Reports Clearance Officer.

[FR Doc. E7-8323 Filed 5-1-07; 8:45 am]

BILLING CODE 4150-28-P